DEPARTMENT OF THE TREASURY

Customs Service

19 CFR Part 141

[T.D. 02-12]

RIN 1515-AD07

Payment of Duties on Certain Steel Products

AGENCY: Customs Service, Department of the Treasury.

ACTION: Temporary rule.

SUMMARY: This is a temporary rule that requires importers of the steel products described in the Presidential Proclamation 7529 of March 5, 2002, To Facilitate Positive Adjustment to Competition From Imports of Certain Steel Products published in the Federal Register (67 FR 10553) on March 7, 2002, to defer until April 19, 2002, the deposit of the estimated Customs duties described in the Proclamation on those products entered, or withdrawn from warehouse for consumption in the Customs territory of the United States on or after 12:01 a.m., EST, March 20, 2002 and up to April 4, 2002. This temporary rule implements an instruction of the President regarding the Presidential Proclamation.

EFFECTIVE DATE: This temporary rule is effective at 12:01 a.m. EST, March 20, 2002, and expires on April 20, 2002. This temporary rule applies to those steel products described in Presidential Proclamation 7529 of March 5, 2002, To Facilitate Positive Adjustment to Competition From Imports of Certain Steel Products published in the Federal Register (67 FR 10535) on March 7, 2002, that are entered or withdrawn from warehouse for consumption in the Customs territory of the United States on or after 12:01 a.m., EST, March 20, 2002 and up to April 4, 2002.

FOR FURTHER INFORMATION CONTACT: Millie Gleason, Office of Field Operations (202) 927-0625.

SUPPLEMENTARY INFORMATION:

Background

On March 5, 2002, President George W. Bush signed Presidential Proclamation 7529, a proclamation to facilitate positive adjustment to competition from imports of certain steel products. The Proclamation, which was issued under the President's authority under section 203 of the Trade Act of 1974, as amended (19 U.S.C. 2253), established increases in duty and a tariff-rate quota on imports of certain steel products. These safeguard measures were taken by the President to facilitate efforts by the domestic industry to make positive adjustment to import competition and provide greater economic and social benefits than costs. In the Proclamation, the President provides that if he determines within 30 days of the Proclamation that consultations between the United States and other World Trade Organization (WTO) members pursuant to Article 12.3 of the WTO Agreement on Safeguards have revealed a compelling reason to reduce, modify, or terminate a safeguard measure, he shall proclaim a corresponding reduction, modification, or termination of the safeguard measure.

In conjunction with the Proclamation, President Bush also sent a memorandum dated March 5, 2002, to the Secretary of the Treasury, the Secretary of Commerce, and the United States Trade Representative requiring action under section 203 of the Trade Act of 1974 (19 U.S.C. 2253). In that memorandum, the President instructed the Secretary of the Treasury, pursuant to section 505(a) of the Tariff Act of 1930 (19 U.S.C. 1505(a)), to prescribe by regulation a date no later than 45 days after the date of the memorandum at which estimated duties for the steel products described in the Proclamation that are entered or withdrawn from warehouse for consumption on or after 12:01 a.m., EST, March 20, 2002, and up to the 30th day after the signing of the memorandum shall be deposited. The purpose of this deferral of duty is to facilitate consultations between the United States and its foreign trading partners concerning the President's determination in accordance with Article 12.3 of the World Trade Organization Agreement on Safeguards.

The Proclamation and the Memorandum for the Secretary of the Treasury, the Secretary of Commerce, and the United States Trade Representative were published in the Federal Register (67 FR 10553, 67 FR 10593) on March 7, 2002. The effective date of the Proclamation is March 20, 2002.

This document sets forth the temporary regulation that the President instructed the Secretary of the Treasury to prescribe. It is noted that, pursuant to the regulation set forth below, only deposit of the duties required pursuant to Presidential Proclamation 7529 is deferred. The deferral of deposit of duties is not applicable to regular duties, including antidumping and countervailing duties, that are owed on the entry of products covered by the Proclamation.

Administrative Procedure Act, Regulatory Flexibility Act and Executive Order 12866

This regulation implements a direction of the President of the United States pursuant to his authority under section 203 of the Trade Act of 1974, as amended (19 U.S.C. 2253) to take all appropriate and feasible action within his power which he determines will facilitate efforts by the domestic industry to make a positive adjustment to import competition and provide greater economic and social benefits than costs. Accordingly, there is good cause that notice and public procedure are contrary to the public interest pursuant to 5 U.S.C. 553(b)(B). For the same reason, and because this temporary rule relieves importers from the obligation to deposit estimated duties, a delayed effective date is not required pursuant to 5 U.S.C. 553(d)(1) and (3). Moreover, because this temporary rule facilitates consultations between the United States and its foreign trading partners concerning the President's determination in accordance with Article 12.3 of the World Trade Organization Agreement on Safeguards, this rule involves a foreign affairs function of the United States that is exempt from notice and public procedure, as well as a delayed effective date, pursuant to 5 U.S.C. 553(a)(1).

Because no notice of proposed rulemaking is required, this temporary rule is not subject to the provisions of the Regulatory Flexibility Act (5 U.S.C. 601 et seq.) Nor is this temporary rule a “significant regulatory action” for purposes of E.O. 12866.

List of Subjects in 19 CFR Part 141

Customs duties and inspection, Entry of merchandise, Release of merchandise, Reporting and recordkeeping requirements.

Amendment to the Regulations

Part 141, Customs Regulations (19 CFR part 141) is amended as set forth below.

PART 141—ENTRY OF MERCHANDISE

1. The general authority citation for part 141 and the specific authority citation for subpart G continue to read, and a new specific authority for § 141.102(f) is added in appropriate numerical order to read as follows:

Authority: 5 U.S.C. 301; 19 U.S.C. 66, 1431, 1433, 1434, 1624; 46 U.S.C. App. 3, 91.

* * * * *

Subpart G also issued under 19 U.S.C. 1505;

* * * * *

Section 141.102(f) also issued under Presidential Proclamation 7529;

* * * * *

2. Section 141.102 is amended by adding a new paragraph (f) to read as follows:

§ 141.102 When deposit of estimated duties, estimated taxes, or both not required.

* * * * *

(f) Steel products described in Presidential Proclamation 7529 of March 5, 2002, To Facilitate Positive Adjustment to Competition From Imports of Certain Steel Products. An importer of the steel products described in Presidential Proclamation 7529 of March 5, 2002, To Facilitate Positive Adjustment to Competition From Imports of Certain Steel Products published in the Federal Register (67 FR 10553) on March 7, 2002, must defer until April 19, 2002, the deposit of the estimated Customs duties described in the Proclamation on those products entered, or withdrawn from warehouse for consumption in the Customs territory of the United States on or after 12:01 a.m., EST, March 20, 2002, and up to April 4, 2002.

Robert C. Bonner,
Commissioner of Customs.
Approved: March 18, 2002.
Timothy E. Skud,
Acting Deputy Assistant Secretary of the Treasury.

[FR Doc. 02-6807 Filed 3-18-02; 11:05 am]

BILLING CODE 4820-02-P